DEPARTMENT OF THE INTERIOR

Geological Survey

Patent, Trademark and Copyright Acts

AGENCY: U.S. Geological Survey, Interior.

ACTION: Notice of prospective intent to award exclusive license.

SUMMARY: The United States Geological Survey (USGS) is contemplating awarding an exclusive license to Westco Scientific Instruments, Inc., of Danbury, CT, on U.S. Patent Application Serial No. 10/251,696, entitled “Reduction Devise for Nitrate Determination.”

Inquiries: If other parties are interested in similar activities, or have comments related to the prospective award,please contact Neil Mark, USGS, 12201 Sunrise Valley Drive, MS 201, Reston, Virginia 20192, voice (703) 648-4344, fax (703) 648-7219, or e-mail nmark@usgs.gov.

SUPPLEMENTARY INFORMATION: This notice is submitted to meet the requirements of 35 U.S.C. 208 et seq.

Dated: September 3, 2004.
Carol F. Aten,
Chief, Office of Administrative Policy and Services.

[FR Doc. 04-21383 Filed 9-22-04; 8:45 am]

BILLING CODE 4310-Y7-M